DEPARTMENT OF HEALTH AND HUMAN SERVICES

National Institutes of Health

The National Institute of Dental and Craniofacial Research Announces Plans To Develop Its Strategic Plan for 2009-2013 and Invites Public Comments

AGENCY: National Institute of Dental and Craniofacial Research (NIDCR), National Institutes of Health (NIH), Department of Health and Human Services (HHS).

ACTION: Request for comments.

SUMMARY: The NIDCR is developing a new strategic plan to guide the Institute's research efforts over the next five years (2009-2013). NIDCR is inviting public comments and input for the development of the plan via its Web site http://www.nidcr.nih.gov, by mail or fax to the addresses below.

ADDRESSES: National Institute of Dental and Craniofacial Research, Office of the Director, 31 Center Drive, Building 31 Room 2C39, MSC 2290 Bethesda, MD 20892.

FAX: 301-402-2185.

E-mail: http://www.nidcr.nih.gov/NewsAndFeatures/Announcements/StrategicPlanInput.htm.

DATES: Comments should be submitted via e-mail on or before June 20, 2008.

Background: NIDCR is the lead federal agency for research and research training on oral, dental and craniofacial diseases and disorders. NIDCR has a distinguished record of nearly 60 years of supporting research to advance the oral health of the nation. Achieving NIDCR's vision of advancing the oral health and well-being for all requires having a comprehensive strategic plan that identifies the most promising opportunities for investment, delineates the Institute's priorities, and that reflects the advice of the research community and the public at large. NIDCR achieves its mission to improve oral, dental and craniofacial health through research, research training and the dissemination of health information.

Request for Comments

The NIDCR seeks input to the following questions to inform the strategic plan:

1. Looking forward, should NIDCR increase its use of targeted research to ensure that key research areas with promise are addressed? If so, what priority areas would you recommend that NIDCR pursue? Targeted research is research solicited by the Institute via initiatives, RFAs or RFPs.

2. In your view, what are the truly “transformative” areas that could have the greatest benefit for advancing dental research?

3. What can be done to augment and accelerate the role and significance of dental and craniofacial research in the growing framework of translational research?

4. What should be NIDCR's position on funding “high risk/high reward research”? What in your view constitutes “high risk/high reward”?

5. In realistic terms, what can—and should—NIDCR do to expand and enhance the “pipeline” for new dental and craniofacial researchers?

6. Please provide any additional input that you think would be useful to NIDCR in developing its 2009—2013 Strategic Plan.

Individuals submitting public comments are asked to include relevant contact information [name, affiliation (if any), e-mail-address and phone]. This information may be disclosed to NIDCR senior staff serving on the strategic plan steering committee and to contractors working on behalf of NIDCR. Submission of this information is voluntary. However, the information you provide will help to categorize responses by scientific area of expertise, organizational entity or professional affiliation. Collection of this information is authorized under 42 U.S.C. 203, 241, 2891-1 and 44 U.S.C. 3101 and Sections 301 and 493 of the Public Health Service Act regarding the establishment of the National Institutes of Health, its general authority to conduct and fund research and to provide training assistance, and its general authority to maintain records in connection with its other functions.

Dated: May 17, 2008.
Lawrence A. Tabak,
Director, National Institute of Dental and Craniofacial Research, National Institutes of Health.

[FR Doc. E8-11799 Filed 5-23-08; 8:45 am]

BILLING CODE 4140-01-P